NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a teleconference meeting of the Advisory Committee on the Medical Uses of Isotopes (ACMUI) on February 7, 2012, to discuss the ACMUI Permanent Implant Brachytherapy Subcommittee Report. A copy of the agenda for the meeting will be available at http://www.nrc.gov/reading-rm/doc-collections/acmui/agenda. Handouts for the meeting will be available at http://www.nrc.gov/reading-rm/doc-collections/acmui/meeting-slides/. The agenda and handouts may also by obtained by contacting Ms. Ashley Cockerham using the information below.

DATES: The teleconference meeting will be held on Tuesday, February 7, 2012, 12 p.m. to 2 p.m. Eastern Standard Time (EST).

Public Participation: Any member of the public who wishes to participate in the teleconference discussions should contact Ms. Cockerham using the contact information below.

Contact Information: Ashley M. Cockerham, email: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received by February 2, three business days prior to the meeting, and must pertain to the topic on the agenda for the meeting.

2. Questions and comments from members of the public will be permitted during the meetings, at the discretion of the Chairman.

3. The transcript will be available on the ACMUI's web site (http://www.nrc.gov/reading-rm/doc-collections/acmui/tr/) approximately 30 calendar days following the meeting, on March 8, 2012. A meeting summary will be available approximately 30 business days following the meeting, on March 21, 2012.

The meetings will be held in accordance with the Atomic Energy Act of 1954, as amended (primarily Section 161a); the Federal Advisory Committee Act (5 U.S.C. App); and the Commission's regulations in Title 10, U.S. Code of Federal Regulations, Part 7.

Dated: January 10, 2012.
Andrew L. Bates,
Advisory Committee Management Officer.

[FR Doc. 2012-551 Filed 1-12-12; 8:45 am]

BILLING CODE 7590-01-P